DEPARTMENT OF HEALTH AND HUMAN SERVICES

Centers for Disease Control And Prevention

[60Day-01-12]

Proposed Data Collections Submitted for Public Comment and Recommendations

In compliance with the requirement of Section 3506 (c)(2)(A) of the Paperwork reduction Act of 1995, the Center for Disease Control and Prevention is providing opportunity for public comment on proposed data collection projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques for other forms of information technology. Send comments to Anne O'Connor, CDC Assistant Reports Clearance Officer, 1600 Clifton Road, MS-D24, Atlanta, GA 30333. Written comments should be received within 60 days of this notice.

Proposed Project

Applying Schema Matching to Latex Allergy Prevention -NEW- National Institute for Occupational Safety and Health (NIOSH), Centers for Disease Control and Prevention (CDC). The mission of the National Institute for Occupational Safety and Health (NIOSH) is to promote safety and health at work for all people through research and prevention.

This project is a 3-year study that will investigate whether application of schema correspondence theory will increase the effectiveness of NIOSH natural rubber latex (NRL) allergy information brochures. Allergy to NRL has been identified as a significant health risk among workers using latex gloves. NRL allergy may involve the skin (redness, hives, or itching) and/or the respiratory track (runny nose, itchy eyes, sneezing, asthma). Reactions to NRL range from mild to severe enough to require medical attention. In rare instances, anaphylaxis (shock) can occur. A number of studies suggest prevalence of NRL sensitization among healthcare workers ranging from 5-12%. Non-healthcare workers are also at risk for NRL allergy. Prevalence rates of up to 7% for antibodies to NRL allergy have been reported among the general population.

In 1997, NIOSH published Alert: Preventing allergic reactions to natural rubber latex in the workplace. Despite the importance of such NIOSH recommendations, it is unclear how relevant this information is perceived to be by workers. Contemporary models of persuasion consider message relevance to be crucial in determining whether a message will be carefully thought about. Schema correspondence theory proposes that increasing the number of elements in a health and safety message that members of an occupational group can identify with should increase its relevance to that group. Messages are more effective, when individuals can think about themselves as they are presented with the information.

Message development and occupational group selection for this project will be guided by Holland's Career Typology Theory. This theory postulates that both individuals and occupations may be described in terms of six primary work personality types, each of which is characterized by a distinctive clustering of work-related interests, values and activities. One occupational group from each of the six primary Holland types will be targeted in this study. These groups are: police officers, veterinary assistants, hairstylists, childcare workers, and food service workers. Occupational group specific information, such as work-related interests, values, and activities, will be combined with NRL allergy information to produce brochures tailored for each of the six groups. The effectiveness of the tailored NRL brochures developed by this study will be compared with a “generic”, untailored NRL brochure, with the existing NIOSH NRL allergy brochure, Latex Allergy: A Prevention Guide, and with a NRL allergy brochure currently under development by another NIOSH research project.

In a Pretesting Phase, workers will assess statements that will be used to develop the study brochures. These brochures will be assessed in a small scale Pilot Study using samples from each of the six occupational groups. The tailored brochures will be finalized and assessed in a full scale Field Study using samples from each of the six occupational groups. Participants will be asked to read the brochures that have been tailored for their occupational group and then to complete attitude and behavior surveys immediately, and at one and three month follow ups.

This study will contribute significantly to the knowledge concerning the application of schema matching theory to occupational safety and health information. In addition, this study will also provide valuable information regarding the effectiveness of text-based occupational safety and health interventions over time. If proven successful, schema matching could be used by NIOSH to increase the effectiveness of a wide range of occupational safety and health communications. Based on an average hourly wage of $10.00 among all occupational groups combined, the total annual cost to respondents is $16,225. This is a 3-year study.

Phase | Number of respondents | Number of responses per respondent | Average time burden (hours) per response | Total burden (hours)
Pretesting | 180 | 1 | 2.0 | 360
Pilot Study | 375 | 1 | 30/60 | 187.5
Field Study | 2,880 | 3 | 30/60 | 4,320
Total |  |  |  | 4,867.5

Dated: December 18, 2000.
Chuck Gollmar,
Deputy Associate Director for Policy, Planning and Evaluation, Centers for Disease Control and Prevention, (CDC).

[FR Doc. 00-32757 Filed 12-21-00; 8:45 am]

BILLING CODE 4163-18-P